FEDERAL ELECTION COMMISSION

Sunshine Act Notices; Meetings

AGENCY: Federal Election Commission.

DATE & TIME: Tuesday, January 29, 2002 at 10:00 a.m.

PLACE: 999 E Street, N.W., Washington, DC.

STATUS: This meeting will be closed to the public.

ITEMS TO BE DISCUSSED:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE & TIME: Thursday, January 31, 2002 at 10:00 A.M.

PLACE: 999 E Street, N.W., Washington, DC. (ninth floor).

STATUS: This meeting will be open to the public.

ITEMS TO BE DISCUSSED:

Correction and Approval of Minutes.

Comments on Draft Interpretation of Travel Allocation Regulations at 11 CFR 106.3(b).

Administrative Matters.

PERSON TO CONTACT FOR INFORMATION: Mr. Ron Harris, Press Officer, Telephone: (202) 694-1220.

Mary W. Dove,
Secretary of the Commission.

[FR Doc. 02-1933 Filed 1-22-02; 8:45 am]

BILLING CODE 6715-01-M